DEPARTMENT OF AGRICULTURE

Agricultural Marketing Service

7 CFR Parts 1001, 1005, 1006, 1007, 1030, 1032, 1033, 1124, 1126, and 1131

[Docket No. AO-14-A75, et al.; DA-06-06]

Milk in the Northeast and Other Marketing Areas; Order Amending Orders

AGENCY: Agricultural Marketing Service, USDA.

ACTION: Final rule; re-interpretation.

SUMMARY: This final rule amends the current ten Federal milk marketing orders issued under the Agricultural Marketing Agreement Act of 1937 (AMAA) to reflect a re-interpretation of the Milk Regulatory Equity Act of 2005, that was signed into law on April 11, 2006. Each order is amended to change the “April 11, 2006” in § 1___.7 to “May 1, 2006.”

7 CFR parts | Marketing area | AO Nos.
1001 | Northeast | AO-14-A75
1005 | Appalachian | AO-388-A19
1006 | Florida | AO-356-A40
1007 | Southeast | AO-366-A48
1030 | Upper Midwest | AO-361-A41
1032 | Central | AO-313-A50
1033 | Mideast | AO-166-A74
1124 | Pacific Northwest | AO-368-A36
1126 | Southwest | AO-231-A69
1131 | Arizona | AO-271-A41

DATES: Effective Date: May 1, 2006.

FOR FURTHER INFORMATION CONTACT: Gino M. Tosi, Associate Deputy Administrator for Order Formulation and Enforcement, USDA/AMS/Dairy Programs, Stop 0231-Room 2971-S, 1400 Independence Avenue, SW., Washington, DC 20250-0231, (202) 690-1366, e-mail address: gino.tosi@usda.gov.

SUPPLEMENTARY INFORMATION: This final rule re-interprets the provisions of the Milk Regulatory Equity Act of 2005 (Pub. L. 109-215, 120 Stat. 328), that amended the Agricultural Marketing Agreement Act of 1937 (AMAA).

Due to the ambiguity of the legislative language and the Congressional intent as reflected in the floor debate and elsewhere, the Department has determined that the Federal milk marketing orders should be amended to reflect the complete removal of Nevada from any marketing area.

Prior documents in this proceeding:

Final Rule: Issued April 25, 2006; Published May 1, 2006 (71 FR 25495).

List of Subjects in 7 CFR Parts 1001, 1005, 1006, 1007, 1030, 1032, 1033, 1124, 1126, and 1131

Milk marketing orders.

Order Relative to Handling

It is therefore ordered, that on and after the effective date hereof, the handling of milk in each of the aforesaid marketing areas shall be in conformity to and in compliance with the terms and conditions of the orders, as hereby amended.

For the reasons set forth in the preamble and under the authority set for in Public Law 109-215, 120 Stat. 328, 7 CFR parts 1001, 1005, 1006, 1007, 1030, 1032, 1033, 1124, 1126, and 1131 are amended as follows:

1. The authority citation for 7 CFR parts 1001, 1005, 1006, 1007, 1030, 1032, 1033, 1124, 1126, and 1131 continues to read as follows:

Authority: 7 U.S.C. 601-674, 7253, and P.L. 109-215, 120 Stat. 328.

PART 1001—MILK IN THE NORTHEAST MARKETING AREA

2. Revise § 1001.7(d) introductory text to read as follows:

§ 1001.7 Pool plant.

* * * * *

(d) Any distributing plant, located within the marketing area as described on May 1, 2006, in § 1001.2;

* * * * *

PART 1005—MILK IN THE APPALACHIAN MARKETING AREA

3. Revise § 1005.7(g) introductory text to read as follows:

§ 1005.7 Pool plant.

* * * * *

(g) Any distributing plant other than a plant qualified as a pool plant pursuant to paragraph § 1005.(7)(a) or paragraph (b) of this section or § ___.7(b) of any other Federal milk order or § 1005.(7)(e) or § 1000.(8)(a) or § 1000.(8)(e); located within the marketing area as described on May 1, 2006, in § 1005.2, from which there is route disposition and/or transfers of packaged fluid milk products in any non-Federally regulated marketing area(s) located within one or more States that require handlers to pay minimum prices for raw milk provided that 25 percent or more of the total quantity of fluid milk products physically received at such plant (excluding concentrated milk received from another plant by agreement for other than Class I use) is disposed of as route disposition and/or is transferred in the form of packaged fluid milk products to other plants. At least 25 percent of such route disposition and/or transfers, in aggregate, are in any non-Federally regulated marketing area(s) located within one or more States that require handlers to pay minimum prices for raw milk. Subject to the following exclusion:

* * * * *

PART 1006—MILK IN THE FLORIDA MARKETING AREA

4. Revise § 1006.7(h) introductory text to read as follows:

§ 1006.7 Pool plant.

* * * * *

(h) Any distributing plant, located within the marketing area as described on May 1, 2006, in § 1006.2;

* * * * *

PART 1007—MILK IN THE SOUTHEAST MARKETING AREA

5. Revise § 1007.7(h) introductory text to read as follows:

§ 1007.7 Pool plant.

* * * * *

(h) Any distributing plant, located within the marketing area as described on May 1, 2006, in § 1007.2;

* * * * *

PART 1030—MILK IN THE UPPER MIDWEST MARKETING AREA

6. Revise § 1030.7(d) introductory text to read as follows:

§ 1030.7 Pool plant.

* * * * *

(d) Any distributing plant, located within the marketing area as described on May 1, 2006, in § 1030.2;

* * * * *

PART 1032—MILK IN THE CENTRAL MARKETING AREA

7. Revise § 1032.7(i) introductory text to read as follows:

§ 1032.7 Pool plant.

* * * * *

(i) Any distributing plant, located within the marketing area as described on May 1, 2006, in § 1032.2;

* * * * *

PART 1033—MILK IN THE MIDEAST MARKETING AREA

8. Revise § 1033.7(j) introductory text to read as follows:

§ 1033.7 Pool plant.

* * * * *

(j) Any distributing plant, located within the marketing area as described on May 1, 2006, in § 1033.2;

* * * * *

PART 1124—MILK IN THE PACIFIC NORTHWEST MARKETING AREA

9. Revise § 1124.7(e) introductory text to read as follows:

§ 1124.7 Pool plant.

* * * * *

(e) Any distributing plant, located within the marketing area as described on May 1, 2006, in § 1124.2;

* * * * *

PART 1126—MILK IN THE SOUTHWEST MARKETING AREA

10. Revise § 1126.7(h) introductory text to read as follows:

§ 1126.7 Pool plant.

* * * * *

(h) Any distributing plant, located within the marketing area as described on May 1, 2006, in § 1126.2;

* * * * *

PART 1131—MILK IN THE ARIZONA MARKETING AREA

11. Revise the part heading for part 1131 to read as set forth above.

§ 1131.2 [Amended]

12. Revise the section heading for § 1131.2 to read as follows:

§ 1131.2 Arizona marketing area.

13. Revise § 1131.7(h) introductory text to read as follows:

§ 1131.7 Pool plant.

* * * * *

(h) Any distributing plant, located within the marketing area as described on May 1, 2006, in § 1131.2;

* * * * *

Dated: May 12, 2006.
Lloyd C. Day,
Administrator, Agricultural Marketing Service.

[FR Doc. 06-4590 Filed 5-12-06; 10:25 am]

BILLING CODE 3410-02-P